DEPARTMENT OF TRANSPORTATION

Federal Aviation Administration

14 CFR Parts 91, 121, 125, 129, and 135

[Docket No. FAA-2011-1082]

Provision of Navigation Services for the Next Generation Air Transportation System (NextGen) Transition to Performance-Based Navigation (PBN) (Plan for Establishing a VOR Minimum Operational Network)

AGENCY: Federal Aviation Administration (FAA), DOT.

ACTION: Final policy statement.

SUMMARY: This action sets forth the Very High Frequency (VHF) Omnidirectional Range (VOR) Minimum Operational Network (MON) policy as proposed in the Proposed Provision of Navigation Services for the Next Generation Air Transportation System (NextGen) Transition to Performance-Based Navigation (PBN) notice of proposed policy published on December 15, 2011 (76 FR 77939). This document provides the discontinuance selection criteria and candidate list of VOR Navigational Aids (NAVAIDs) targeted for discontinuance as part of the VOR MON Implementation Program and United States (U.S.) National Airspace System (NAS) Efficient Streamline Services Initiative. Additionally, this policy addresses the regulatory processes the FAA plans to follow to discontinue VORs.

DATES: Effective July 26, 2016.

FOR FURTHER INFORMATION CONTACT: Ms. Leonixa Salcedo, VOR MON Program Manager, AJM-324, Navigation Programs, Federal Aviation Administration, 800 Independence Avenue SW., Washington, DC 20591; email: vormon@faa.gov; telephone: (844) 4VORMON (844-486-7666).

SUPPLEMENTARY INFORMATION:

Background

On December 15, 2011 the FAA published in the Federal Register a notice of proposed policy and request for comments (76 FR 77939) on the FAA's proposed strategy for gradually reducing the current VOR network to a Minimum Operational Network (MON) as the NAS transitions to performance-based navigation (PBN) as part of the Next Generation Air Transportation System (NextGen). The FAA announced that, as part of a NAS Efficient Streamlined Services Initiative, the number of conventional NAVAIDs would be reduced while more efficient Area Navigation (RNAV) routes and procedures are implemented throughout the NAS. The FAA noted its intention to convene a working group to assist in developing a candidate list of VORs for discontinuance using relevant operational, safety, cost, and economic criteria. Interested parties were invited to participate in the review of this policy and planning effort by submitting written comments on the proposal.

The FAA reviewed all 330 comments received and on August 21, 2012, published in the Federal Register the disposition of the comments on the notice of proposed policy (77 FR 50420). In considering and disposing of the comments, the FAA noted that it would develop an initial VOR MON Plan which would be made publicly available. The FAA renewed its intention to convene a working group that would assist in developing objective criteria which would be applied consistently nationally and regionally to help identify those VOR facilities that would remain operational.

Criteria for Assessing VOR Discontinuance

After the FAA published the disposition of comments, stakeholders, industry, and military services provided further inputs to the FAA for consideration in developing the criteria used to select VORs that would need to be retained as a part of the MON. The FAA also sought recommendations from aviation industry stakeholders through the RTCA Tactical Operations Committee (TOC). With this collective input, the FAA developed the criteria to determine which VORs would be candidates for retention. VORs not meeting these criteria were considered as discontinuance candidates.

The following criteria were used by the FAA to determine which VORs would be retained as a part of the MON:

— Retain VORs to perform Instrument Landing System (ILS), Localizer (LOC), or VOR approaches supporting MON airports at suitable destinations within 100 NM of any location within the CONUS. Selected approaches would not require Automatic Direction Finder (ADF), Distance Measuring Equipment (DME), Radar, or GPS.

— Retain VORs to support international oceanic arrival routes.

— Retain VORs to provide coverage at and above 5,000 ft AGL.

— Retain most VORs in the Western U.S. Mountainous Area (WUSMA), specifically those anchoring Victor airways through high elevation terrain.

— Retain VORs required for military use.

— VORs outside of the CONUS were not considered for discontinuance under the VOR MON Implementation Program.

The following considerations were used to supplement the VOR MON criteria above:

— Only FAA owned/operated VORs were considered for discontinuance.

— Co-located DME and Tactical Air Navigation (TACAN) systems will generally be retained when the VOR service is terminated.

— Co-located communication services relocated or reconfigured to continue transmitting their services.

Working Group

Using the established criteria, the FAA convened an internal working group to develop a candidate list of VORs using the VOR MON criteria relevant to operational, safety, cost, and economic considerations. The group developed the VOR MON service by first selecting MON airports that met the criteria listed above. Airports with ILS approaches that met the criteria were selected in preference to VOR approaches. If two airports in close proximity had suitable approaches, then the airport whose ILS or VOR approach required the FAA to retain the fewest number of VORs (i.e., to identify initial, final, stepdown, and missed approach points) were generally selected. VORs necessary to fulfil other criteria were then selected to be retained. Additional VORs were retained to provide coverage at 5000 ft AGL. The effect of terrain blockage and unavailable radials from some VORs was considered, as was MON airport infrastructure, radar coverage, and training. The overall goal of the effort was to provide the VOR MON service according to the criteria while retaining the fewest number of VORs.

The working group also considered flight procedure development requirements and capabilities, non-rulemaking and rulemaking processing requirements and timelines, and geographic impacts to the NAS as it refined the candidate list of VORs for retention. Since some VORs are co-located with communications services, such as the Hazardous Inflight Weather Advisory Service (HIWAS) and Remote Communication Outlet (RCO), the working group also identified which services would be reconfigured or relocated in order to continue to provide those services. For VORs not listed as part of the MON, the FAA's working groups developed a candidate list of VORs for discontinuance arranged in two Phases (2016-2020 and 2021-2025) by Service Area based on Instrument Flight Procedure (IFP) mitigation complexity.

Discontinuance Process

The FAA will follow its established policies and processes for VOR discontinuance according to FAA Order JO 7400.2, Procedures for Handling Airspace Matters. Prior to making any VOR discontinuance determinations, the geographically responsible Air Traffic Organization (ATO) service area office will publish a circular notice of the proposed discontinuance action to solicit comments from aviation interested persons and organizations. A brief description of the discontinuance effect on airspace and instrument procedures will be included in the circularization. Once a determination to discontinue a VOR has been made, the responsible service area office will initiate established part 71 and part 97 rulemaking processing procedures. The FAA will publish Notices of Proposed Rulemaking (NPRM) in the Federal Register to solicit public comments on all proposed part 71 airspace and ATS route amendments resulting from VOR discontinuance determinations prior to taking any amendment actions within the NAS. After consideration of all public comments received in response to published NPRMs, the FAA will determine whether to issue final rules announcing part 71 airspace and Air Traffic Service (ATS) route and part 97 standard instrument procedure amendment determinations in the Federal Register.

The FAA remains committed to the plan to retain an optimized network of VOR NAVAIDs. The MON will enable pilots to revert from Performance Based Navigation (PBN) to conventional navigation for approach, terminal and en route operations in the event of a GPS outage and supports the NAS transition from VOR-based routes to a more efficient PBN structure consistent with NextGen goals and the NAS Efficient Streamlined Services Initiative.

The FAA continues to plan the NAS transition from defining ATS routes and instrument procedures using VORs and other conventional NAVAIDs ¹ to a point-to-point system based on RNAV and Required Navigation Performance (RNP). RNAV will generally be available throughout the NAS and RNP will be provided where beneficial. The FAA's network of DME NAVAIDs will provide a PBN-capable backup to GPS; however, for aircraft without scanning DME receivers (DD) or DD with Inertial Reference Unit aiding (DDI) equipment, the FAA will provide a conventional navigation backup service based on the proposed VOR MON. The VOR MON is designed to enable aircraft, having lost Global Navigation Satellite System (GNSS) service, to revert to conventional navigation procedures. The VOR MON is further designed to allow aircraft to proceed to a MON airport where an ILS or VOR approach procedure can be flown without the necessity of GPS, DME, ADF, or Surveillance. Of course, any airport with a suitable instrument approach may be used for landing, but the VOR MON assures that at least one airport will be within 100 NM.

¹ Includes Tactical Air Navigation (TACAN), VOR/TACAN (VORTAC), VOR/DME, and Non-Directional Beacon (NDB) operated by the FAA.

Discontinuance Candidate List

Provided below is a candidate list of VORs being considered for discontinuance in Phase 1 (2016-2020) and Phase 2 (2021-2025) as the FAA works toward the establishment of a VOR MON. It is tentative and may be adjusted based on economic or other factors. As of June 21, 2016 the 45 facilities denoted with an asterisk (*) have completed the circularization public notice process and the FAA has made its determination for discontinuance:

VOR MON Program—Phase 1 Candidate Discontinuance List (FY2016-FY2020)
ID | VOR Name | City | ST
Western Service Area (WSA) Phase 1 Discontinuance Total: 10
BSR | BIG SUR | BIG SUR | CA
CCR | CONCORD | CONCORD | CA
CIC | CHICO | CHICO | CA
CZQ | CLOVIS | FRESNO | CA
ECA * | MANTECA | STOCKTON | CA
HYP | EL NIDO | MERCED | CA
LIA | LIBERATOR | MOUNTAIN HOME | ID
MXW * | MAXWELL | MAXWELL | CA
PVU | PROVO | PROVO | UT
ROM | PRIEST | PRIEST | CA
Central Service Area (CSA) Phase 1 Discontinuance Total: 31
ANY | ANTHONY | ANTHONY | KS
AOH * | ALLEN COUNTY | LIMA | OH
ASP | AU SABLE | OSCODA | MI
BDE | BAUDETTE | BAUDETTE | MN
BRD * | BRAINERD | BRAINERD | MN
BTL * | BATTLE CREEK | BATTLE CREEK | MI
BUA * | BUFFALO | BUFFALO | SD
BUU | BURBUN | BURLINGTON | WI
BWS | BOLES | BOLES | NM
CGI | CAPE GIRARDEAU | CAPE GIRARDEAU | MO
CSX | CARDINAL | CARDINAL | MO
DAK | DRAKE | FAYETTEVILLE | AR
DDD | PORT CITY | MUSCATINE | IA
DUC | DUNCAN | DUNCAN | OK
ENW | KENOSHA | KENOSHA | WI
FLP | FLIPPIN | FLIPPIN | AR
GBG | GALESBURG | GALESBURG | IL
GTH | GUTHRIE | GUTHRIE | TX
HRK | HORLICK | RACINE | WI
HUB * | HOBBY | HOBBY | TX
HUW | HUTTON | WEST PLAINS | MO
IJX | JACKSONVILLE | JACKSONVILLE | IL
IKK | KANKAKEE | KANKAKEE | IL
LAN | LANSING | LANSING | MI
LJT | TIMMERMAN | MILWAUKEE | WI
LWV | LAWRENCEVILLE | LAWRENCEVILLE | IL
MTO | MATTOON | MATTOON/CHARLESTON | IL
PSI | PONTIAC | WHITE LAKE | MI
RIS * | RIVERSIDE | KANSAS CITY | MO
STE * | STEVENS POINT | STEVENS POINT | WI
SYO * | SAYRE | SAYRE | OK
Eastern Service Area (ESA) Phase 1 Discontinuance Total: 33
ABB * | NABB | NABB | IN
AOO | ALTOONA | ALTOONA | PA
BML | BERLIN | BERLIN | NH
BQM | BOWMAN | LOUISVILLE | KY
CCT | CENTRAL CITY | CENTRAL CITY | KY
CYY | CYPRESS | NAPLES | FL
DAN | DANVILLE | DANVILLE | VA
DKK * | DUNKIRK | DUNKIRK | NY
DYR * | DYERSBURG | DYERSBURG | TN
EDS * | ORANGEBURG | ORANGEBURG | SC
ELZ * | WELLSVILLE | WELLSVILLE | NY
EWA * | KEWANEE | KEWANEE | MS
FKN * | FRANKLIN | FRANKLIN | VA
GFL * | GLENS FALLS | GLENS FALLS | NY
GRV * | GRANTSVILLE | GRANTSVILLE | MD
HAB | HAMILTON | HAMILTON | AL
HLL | HANDLE | PANAMA CITY | FL
HUL | HOULTON | HOULTON | ME
HVN | NEW HAVEN | NEW HAVEN | CT
HZL * | HAZLETON | HAZLETON | PA
ITH | ITHACA | ITHACA | NY
JKS * | JACKS CREEK | JACKS CREEK | TN
LVL * | LAWRENCEVILLE | HERNDON | VA
MMJ | MONTOUR | PITTSBURGH | PA
OTT * | NOTTINGHAM | NOTTINGHAM | MD
PLB * | PLATTSBURGH | PLATTSBURGH | NY
PNE | NORTH PHILADELPHIA | NORTH PHILADELPHIA | PA
PNN * | PRINCETON | PRINCETON | ME
PXT * | PATUXENT | PATUXENT RIVER | MD
RNL * | RAINELLE | RAINELLE | WV
RUT | RUTLAND | RUTLAND | VT
SLK | SARANAC LAKE | SARANAC LAKE | NY
TDG * | TALLADEGA | TALLADEGA | AL

VOR MON Program—Phase 2 Candidate Discontinuance List (FY2021-FY2025)
ID | VOR Name | City | ST
Western Service Area (WSA) Phase 2 Discontinuance Total: 5
COE | COEUR D'ALENE | COEUR D'ALENE | ID
DEN | DENVER | DENVER | CO
HUH | WHATCOM | BELLINGHAM | WA
PAE | PAINE | EVERETT | WA
STS | SANTA ROSA | SANTA ROSA | CA
Central Service Area (CSA) Phase 2 Discontinuance Total: 131
ATY | WATERTOWN | WATERTOWN | SD
AUW | WAUSAU | WAUSAU | WI
AZO | KALAMAZOO | KALAMAZOO | MI
BDF | BRADFORD | BRADFORD | IL
BGD | BORGER | BORGER | TX
BMI | BLOOMINGTON | BLOOMINGTON | IL
BPT | BEAUMONT | BEAUMONT PORT ARTHUR | TX
BRO | BROWNSVILLE | BROWNSVILLE | TX
BVT | BOILER | LAFAYETTE | IN
CLL | COLLEGE STATION | COLLEGE STATION | TX
CNU | CHANUTE | CHANUTE | KS
CQY | CEDAR CREEK | CEDAR CREEK | TX
CTW | NEWCOMERSTOWN | NEWCOMERSTOWN | OH
CXR | CHARDON | CHARDON | OH
DAS | DAISETTA | DAISETTA | TX
DNV | DANVILLE | DANVILLE | IL
DVL | DEVILS LAKE | DEVILS LAKE | ND
DWN | DARWIN | DARWIN | MN
DXO | DETROIT | DETROIT | MI
EIC | BELCHER | SHREVEPORT | LA
ELA | EAGLE LAKE | EAGLE LAKE | TX
ELO | ELY | ELY | MN
ELX | KEELER | KEELER | MI
EON | PEOTONE | PEOTONE | IL
EOS | NEOSHO | NEOSHO | MO
FAH | FALLS | SHEBOYGAN | WI
FBC | FLAG CITY | FINDLAY | OH
FCM | FLYING CLOUD | MINNEAPOLIS | MN
FOD | FORT DODGE | FORT DODGE | IA
FRM | FAIRMONT | FAIRMONT | MN
GIJ | GIPPER | NILES | MI
GLD | GOODLAND | GOODLAND | KS
GLR | GAYLORD | GAYLORD | MI
GNL | GROESBECK | MEXIA | TX
GNP | GLENPOOL | GLENPOOL | OK
GPZ | GRAND RAPIDS | GRAND RAPIDS | MN
GQE | GILMORE | GILMORE | AR
GSH | GOSHEN | GOSHEN | IN
HIC | WHITE CLOUD | WHITE CLOUD | MI
HML | HUMBOLDT | HUMBOLDT | MN
HON | HURON | HURON | SD
HSI | HASTINGS | HASTINGS | NE
HYR | HAYWARD | HAYWARD | WI
HYS | HAYS | HAYS | KS
ICT | WICHITA | WICHITA | KS
IDU | INDUSTRY | INDUSTRY | TX
IFI | KINGFISHER | KINGFISHER | OK
IMT | IRON MOUNTAIN | IRON MOUNTAIN KINGSFORD | MI
IRK | KIRKSVILLE | KIRKSVILLE | MO
ISD | WINNER | WINNER | SD
ISQ | SCHOOLCRAFT COUNTY | MANISTIQUE | MI
JEN | GLEN ROSE | GLEN ROSE | TX
JFN | JEFFERSON | JEFFERSON | OH
JVL | JANESVILLE | JANESVILLE | WI
JWJ | ELMWOOD | MARSHALLTOWN | IA
JXN | JACKSON | JACKSON | MI
LBL | LIBERAL | LIBERAL | KS
LFD | LITCHFIELD | LITCHFIELD | MI
LFT | LAFAYETTE | LAFAYETTE | LA
LLO | LLANO | LLANO | TX
LNR | LONE ROCK | LONE ROCK | WI
LOA | LEONA | LEONA | TX
LSE | LA CROSSE | LA CROSSE | WI
MAP | MAPLES | MAPLES | MO
MAW | MALDEN | MALDEN | MO
MBL | MANISTEE | MANISTEE | MI
MCM | MACON | MACON | MO
MFD | MANSFIELD | MANSFIELD | OH
MFE | MC ALLEN | MC ALLEN | TX
MIE | MUNCIE | MUNCIE | IN
MKG | MUSKEGON | MUSKEGON | MI
MKT | MANKATO | MANKATO | MN
MLC | MC ALESTER | MC ALESTER | OK
MNM | MENOMINEE | MENOMINEE | MI
MON | MONTICELLO | MONTICELLO | AR
MOP | MOUNT PLEASANT | MOUNT PLEASANT | MI
MSP | MINNEAPOLIS | MINNEAPOLIS | MN
MTW | MANITOWOC | MANITOWOC | WI
MWA | MARION | MARION | IL
MZV | MOLINE | MOLINE | IL
MZZ | MARION | MARION | IN
OBH | WOLBACH | WOLBACH | NE
ODI | NODINE | NODINE | MN
OKK | KOKOMO | KOKOMO | IN
OLK | WEBSTER LAKE | WOLF LAKE | IN
ONL | O'NEILL | O'NEILL | NE
OOM | HOOSIER | BLOOMINGTON | IN
ORD * | CHICAGO O'HARE | CHICAGO O'HARE | IL
OSW | OSWEGO | OSWEGO | KS
OTG | WORTHINGTON | WORTHINGTON | MN
OTM | OTTUMWA | OTTUMWA | IA
OXI | KNOX | KNOX | IN
PKD | PARK RAPIDS | PARK RAPIDS | MN
PLL | POLO | POLO | IL
PLN | PELLSTON | PELLSTON | MI
PMM | PULLMAN | PULLMAN | MI
PNT | PONTIAC | PONTIAC | IL
PRX | PARIS | PARIS | TX
PWE | PAWNEE CITY | PAWNEE CITY | NE
RBA | ROBINSON | ROBINSON | KS
RBS | ROBERTS | ROBERTS | IL
RFD | ROCKFORD | ROCKFORD | IL
RID | RICHMOND | RICHMOND | IN
ROD | ROSEWOOD | ROSEWOOD | OH
ROX | ROSEAU | ROSEAU | MN
RQR | RESERVE | RESERVE | LA
RST | ROCHESTER | ROCHESTER | MN
RZN | SIREN | SIREN | WI
SAM | SAMSVILLE | SAMSVILLE | IL
SGH | SPRINGFIELD | SPRINGFIELD | OH
SLR | SULPHUR SPRINGS | SULPHER SPRINGS | TX
STL | CARDINAL | ST LOUIS | MO
SUX | SIOUX CITY | SIOUX CITY | IA
SVM | SALEM | SALEM | MI
SWB | SAWMILL | WINNFIELD | LA
THX | THREE RIVERS | THREE RIVERS | TX
TKO | MANKATO | MANKATO | KS
TNU | NEWTON | NEWTON | IA
TPL | TEMPLE | TEMPLE | TX
TTH | TERRE HAUTE | TERRE HAUTE | IN
TVT | TIVERTON | TIVERTON | OH
UIN | QUINCY | QUINCY | IL
UKN | WAUKON | WAUKON | IA
UKW | BOWIE | BOWIE | TX
URH | TEXOMA | DURANT | OK
VLA | VANDALIA | VANDALIA | IL
VNN | MOUNT VERNON | MOUNT VERNON | IL
VWV | WATERVILLE | WATERVILLE | OH
YKN | YANKTON | YANKTON | SD
YNG | YOUNGSTOWN | YOUNGSTOWN/WARREN | OH
ZZV | ZANESVILLE | ZANESVILLE | OH
Eastern Service Area (ESA) Phase 2 Discontinuance Total: 98
AGC | ALLEGHENY | PITTSBURGH | PA
AMG | ALMA | ALMA | GA
AML | ARMEL | ARMEL | VA
AZQ | HAZARD | HAZARD | KY
BDR | BRIDGEPORT | BRIDGEPORT | CT
BFD | BRADFORD | BRADFORD | PA
BKW | BECKLEY | BECKLEY | WV
BUF | BUFFALO | BUFFALO | NY
BWG * | BOWLING GREEN | BOWLING GREEN | KY
BWZ | BROADWAY | SCHOOLEY'S MOUNTAIN | NJ
CCV | CAPE CHARLES | CAPE CHARLES | VA
CIP | CLARION | CLARION | PA
CKB * | CLARKSBURG | CLARKSBURG | WV
CLT | CHARLOTTE | CHARLOTTE | NC
CMK | CARMEL | CARMEL | NY
COL | COLTS NECK | COLTS NECK | NJ
CRI | CANARSIE | CANARSIE | NY
CSG | COLUMBUS | COLUMBUS | GA
CSN | CASANOVA | CASANOVA | VA
CTY | CROSS CITY | CROSS CITY | FL
CVG | CINCINNATI | COVINGTON | KY
CVI | COFIELD | COFIELD | NC
DCA | WASHINGTON | WASHINGTON | DC
DCU * | DECATUR | DECATUR | AL
DNY | DELANCEY | DELANCEY | NY
ECB * | NEWCOMBE | NEWCOMBE | KY
EEN | KEENE | KEENE | NH
ELW | ELECTRIC CITY | ANDERSON | SC
ERI | ERIE | ERIE | PA
ESL | KESSEL | KESSEL | WV
ETG | KEATING | KEATING | PA
EUF * | EUFAULA | EUFAULA | AL
EWO | NEW HOPE | NEW HOPE | KY
FJC | ALLENTOWN | ALLENTOWN | PA
FLM | FALMOUTH | FALMOUTH | KY
FLO | FLORENCE | FLORENCE | SC
FQM | WILLIAMSPORT | WILLIAMSPORT | PA
GCV * | GREENE COUNTY | LEAKSVILLE | MS
GGT | GEORGETOWN | GEORGETOWN | NY
GHM * | GRAHAM | CENTERVILLE | TN
GNV * | GATORS | GAINESVILLE | FL
GQO | CHOO CHOO | CHATTANOOGA | TN
GRD | GREENWOOD | GREENWOOD | SC
HEZ | NATCHEZ | NATCHEZ | MS
HLI | HOLLY SPRINGS | HOLLY SPRINGS | MS
HMV | HOLSTON MOUNTAIN | HOLSTON MOUNTAIN | TN
HNK | HANCOCK | HANCOCK | NY
HNN * | HENDERSON | HENDERSON | WV
HRS * | HARRIS | HARRIS | GA
HTO | HAMPTON | EAST HAMPTON | NY
HUO | HUGUENOT | HUGUENOT | NY
IHD * | INDIAN HEAD | SEVEN SPRINGS | PA
LBV | LA BELLE | LA BELLE | FL
LDN | LINDEN | LINDEN | VA
LEB | LEBANON | LEBANON | NH
LGA | LA GUARDIA | NEW YORK | NY
LVZ | WILKES-BARRE | WILKES-BARRE | PA
LWB | GREENBRIER | LEWISBURG | WV
LWM | LAWRENCE | LAWRENCE | MA
LYH | LYNCHBURG | LYNCHBURG | VA
MCN | MACON | MACON | GA
MEM | MEMPHIS | MEMPHIS | TN
MHT | MANCHESTER | MANCHESTER | NH
MIP | MILTON | MILTON | PA
MSL | MUSCLE SHOALS | MUSCLE SHOALS | AL
MSS | MASSENA | MASSENA | NY
MXE | MODINA | MODINA | PA
MYS * | MYSTIC | MYSTIC | KY
ODF | FOOTHILLS | TOCCOA | SC
ODR | WOODRUM | WOODRUM | VA
OOD | WOODSTOWN | WOODSTOWN | NJ
ORW * | NORWICH | NORWICH | CT
PDK | PEACHTREE | ATLANTA | GA
PHK | PAHOKEE | PAHOKEE | FL
PSK | PULASKI | DUBLIN | VA
PSM | PEASE | PORTSMOUTH | NH
PTW | POTTSTOWN | POTTSTOWN | PA
PUT | PUTNAM | PUTNAM | CT
PWL | PAWLING | POUGHKEEPSIE | NY
REC | REVLOC | REVLOC | PA
RKA | ROCKDALE | ROCKDALE | NY
ROA * | ROANOKE | ROANOKE | VA
SBY | SALISBURY | SALISBURY | MD
SFK | STONYFORK | STONYFORK | PA
SLT | SLATE RUN | SLATE RUN | PA
STW | STILLWATER | STILLWATER | NJ
SUG | SUGARLOAF MOUNTAIN | ASHEVILLE | NC
SWL | SNOW HILL | SNOW HILL | MD
TAY * | TAYLOR | TAYLOR | FL
TDT | TIDIOUTE | TIDIOUTE | PA
TEB | TETERBORO | TETERBORO | NJ
TGE * | TUSKEGEE | TUSKEGEE | AL
THS | ST THOMAS | ST THOMAS | PA
TRV | TREASURE | VERO BEACH | FL
UCA | UTICA | UTICA | NY
ULW | ELMIRA | ELMIRA | NY
VAN | VANCE | VANCE | SC
YRK | YORK | YORK | KY

Issued in Washington, DC, on July 19, 2016.
Leonixa Salcedo,
VOR MON Program Manager, AJM-324.

[FR Doc. 2016-17579 Filed 7-25-16; 8:45 am]

BILLING CODE 4910-13-P